DEPARTMENT OF AGRICULTURE

Rural Housing Service

7 CFR Part 3550

[Docket No. RHS-23-SFH-0017]

Single Family Housing Section 504 Home Repair Loans and Grants in Presidentially Declared Disaster Areas Pilot Program; Correction

AGENCY: Rural Housing Service, USDA.

ACTION: Notification; correction.

SUMMARY: The Rural Housing Service (RHS or Agency), a Rural Development (RD) agency of the United States Department of Agriculture (USDA), is correcting a notice that published in the Federal Register on July 18, 2023, entitled “Single Family Housing Section 504 Home Repair Loans and Grants in Presidentially Declared Disaster Areas Pilot Program.” The purpose of the notification was to announce the waiver of four regulatory requirements for the Section 504 Home Repair Loans and Grants in a Presidentially Declared Disaster Areas (PDDAs) pilot program. The purpose of this document is to correct inadvertent errors that were previously published in the notification on July 18, 2023, in the Federal Register.

DATES: The correction is effective September 6, 2023.

FOR FURTHER INFORMATION CONTACT: Anthony Williams, Management and Program Analyst, Special Programs, Single Family Housing Direct Loan Division, Rural Development,1400 Independence Ave., Washington, DC 20250, U.S. Department of Agriculture, Email: anthonyl.williams@usda.gov; Phone: (202) 720-9649.

SUPPLEMENTARY INFORMATION:

Correction

In the Federal Register of July 18, 2023, in FR Doc. 2023-15174 (88 FR 45809), on page 45809, in the second column, under the “Background” heading, in the third paragraph, beginning on the first line remove the text “The following twenty-four (24) States and U.S. Territories are selected based on presidentially declared disasters in calendar year 2022, involvement in the Rural Partners Network, and to provide wide geographic and historic production variation for the pilot: Alabama, Alaska, American Samoa, California, Florida, Georgia, Kansas, Kentucky, Minnesota, Mississippi, Montana, North Carolina, North Dakota, Nebraska, New Mexico, New York, Puerto Rico, South Carolina, South Dakota, Tennessee, Texas, Washington, West Virginia, and Wisconsin.” and add in its place the text “The pilot applies to all homes damaged by a Presidentially Declared Disaster that occurred on or after July 18, 2022, until the conclusion of the pilot on July 18, 2025. This pilot is subject to the availability of funds and the Agency will review the effectiveness of this pilot after one year.”

Karissa Stiers,
Acting Administrator, Rural Housing Service.

[FR Doc. 2023-19115 Filed 9-5-23; 8:45 am]

BILLING CODE 3410-XV-P